SMALL BUSINESS ADMINISTRATION

[Declaration of Disaster #3620]

State of Florida (Amendment #3)

In accordance with a notice received from the Department of Homeland Security—Federal Emergency Management Agency—effective September 10, 2004, the above numbered declaration is hereby amended to include Baker, Bradford, Lee, Nassau, Pinellas, and Union counties as disaster areas due to damages caused by Hurricane Frances occurring on September 3, 2004, and continuing.

In addition, applications for economic injury loans from small businesses located in the contiguous counties of Camden, Charleton, and Ware in the State of Georgia may be filed until the specified date at the previously designated location. All other counties contiguous to the above named primary counties have previously been declared.

All other information remains the same, i.e., the deadline for filing applications for physical damage is November 3, 2004 and for economic injury the deadline is June 6, 2005.

(Catalog of Federal Domestic Assistance Program Nos. 59002 and 59008)
Dated: September 13, 2004.
Herbert L. Mitchell,
Associate Administrator for Disaster Assistance.

[FR Doc. 04-20968 Filed 9-16-04; 8:45 am]

BILLING CODE 8025-01-P